DEPARTMENT OF THE INTERIOR

Bureau of Land Management

[WO-220-1020-24 1A]

RIN 1004-AD42

Grazing Administration—Exclusive of Alaska

AGENCY: Bureau of Land Management, Interior.

ACTION: Notice of intent to prepare an Environmental Impact Statement for the proposed amendments of the Bureau of Land Management's grazing administration regulations and announcement of public meetings.

SUMMARY: Under section 102(2)(C) of the National Environmental Policy Act of 1969 (NEPA), the BLM will prepare a national, programmatic EIS and conduct public scoping meetings on amending the regulations governing BLM livestock grazing administration on public lands. The current rule, issued in 1995, requires amendment to comply with court decisions, provide greater flexibility to managers and permittees, improve existing administrative procedures and business practices, and promote conservation of public lands. The BLM will work collaboratively with interested parties to identify the management decisions that are best suited to local, regional, and national needs as well concerns regarding possible changes to the Grazing Administration Program. The public scoping process will identify issues and develop criteria in the context of the needs and interests of the public. We encourage the public to participate in planned public meetings and to provide comments and suggestions to help us clearly define possible changes to the Grazing Administration Program.

DATES: You must submit your comments by May 2, 2003. BLM may not necessarily consider or include in the Administrative Record for the proposed rule comments that BLM receives after the close of the comment period or comments delivered to an address other than those listed below (see ADDRESSES). In addition, BLM will hold public scoping meetings to focus on relevant issues and environmental concerns, identify possible alternatives, and help determine the scope of the EIS. The public scooping meetings will be held on the following dates at the specified locations and times:

Location | Date and time | Address of meeting | Contact person
Billings, Montana | March 18, 2003, 6-10 p.m | Holiday Inn Grand, Montana, 550 Midland Road, Billings, MT 59101 | Mary Apple, 406-896-5258.
Reno, Nevada | March 20, 2003, 6-10 p.m | Reno Sparks Convention Center, 4590 S. Virginia St., Reno, NV 89502 | JoLynn Worley, 775-861-6515.
Albuquerque, New Mexico | March 25, 2003, 6-10 p.m | Hilton of Albuquerque, 1901 University Blvd., NE., Albuquerque, NM 87102 | Kitty Mulkey, 505-438-7511.
Washington, DC | March 27, 2003, 1-5 p.m | Courtyard By Marriott, (General Scott Room) 1600 Rhode Island Ave., NW., Washington, DC 20036 | Tom Gorey, 202-452-5137.

ADDRESSES: Mail: Director (630), Bureau of Land Management, Eastern States Office, 7450 Boston Boulevard, Springfield, Virginia 22153, Attention: RIN 1004-AD42.

Personal or messenger delivery: 1620 L Street, NW., Room 401, Washington, DC 20036. Direct internet response: http://www.blm.gov/nhp/news/regulatory/index.html or go to BLM's external homepage at http://www.blm.gov/nhp/index.htm and click on the link.

You may also comment via email at the following address: WOComment@blm.gov. We intend this address for use by those who want to keep their electronic comments confidential. Please submit email comments as an ASCII file, avoiding the use of special characters and any form of encryption. Please also include “Attn: AD42” and your name and return address in your email message. You may examine documents pertinent to this proposal at the L Street address. Comments, including names and street addresses of respondents, will be available for public review on the Internet address above and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information relating to the grazing program or the substance of the regulations to be proposed, contact Kenneth Visser at (202) 452-77434. For information relating to the rulemaking process, contact Cynthia Ellis at (202) 452-5012. Persons who use a telecommunications device for the deaf (TDD) may call the Federal Information Relay Service (FIRS) at 1-800-877-8330, 24 hours a day, seven days a week, to contact the above individuals.

SUPPLEMENTARY INFORMATION: In this issue of the Federal Register, BLM is also publishing an advance notice of proposed rulemaking on the changes we are considering making to the regulations governing BLM's Grazing Administration Program. BLM is committed to making the changes to reflect the Secretary's “4C's” philosophy of “consultation, cooperation, and communication all in the service of conservation.” Since the first set of grazing regulations was issued after passage of the Taylor Grazing Act of 1934 as amended (43 U.S.C. 315, 315a-315r), the regulations have been periodically modified, revised and updated. The last major revision effort culminated when BLM published and implemented comprehensive changes to the grazing regulations in 1995.

The changes BLM is considering would encourage partnerships in public land stewardship and establish new options for BLM and rangeland users in the administration and management of public lands. Our goals are to:

(1) Enhance community-based conservation and citizen-centered stewardship;

(2) Improve BLM business practices; and

(3) Provide greater flexibility for the manager and the permittee.

Description of Information Requested

BLM is committed to carrying out the Secretary's objectives and the Rangeland Management Program established by the Federal Land Policy Management Act of 1976 (43 CFR 1740), the Public Rangelands Improvement Act of 1978 (43 U.S.C. 1901-1908), and the Taylor Grazing Act of 1934 as amended (43 U.S.C. 315, 315a-315r). We specifically request comments on the topics we are considering for the proposed rule, as they relate to the EIS. These topics include, but are not limited to, the following (the listing is identical to that which appears in the advance notice of proposed rulemaking):

A. Definitions.

We are considering revising or creating definitions of the following terms: Active use; Authorized use; Base property; Grazing lease; Grazing permit; Grazing preference or Preference; Livestock kind or kind of livestock; Monitoring; Reserve common allotment.

B. We are considering changing regulations to clarify current requirements and to allow better rangeland management and permit administration. Changes we are considering include:

• Clarifying the permit renewal performance review requirements when grazing permits are pledged as security for loans.

• Clarifying who is qualified for public lands grazing use and who will receive preference for a grazing permit or lease.

• Clarifying the provisions addressing grazing preference transfers.

• Reinstating an earlier provision that BLM and the permit holder may share title to certain range improvements if the improvement was constructed under a Cooperative Range Improvement Agreement.

• Clarifying that BLM will follow state law with respect to the acquisition of water rights.

• Examining whether BLM should authorize temporarily locked gates on public lands in order to protect private land and improve livestock operations.

• Clarifying which non-permit related violations BLM may take into account in penalizing a permittee.

• Considering ways to streamline the grazing decision appeal process.

• Extending the time period that BLM may approve nonuse of forage from 3 to 5 years for resource improvement, business, or personal needs.

C. We are also considering amendments related to changes in permitted use. Amendments we are considering include:

• Creating provisions re-emphasizing consideration of social, economic, and cultural impacts, in addition to the ecological impacts, of Federal actions to ensure compliance with the National Environmental Policy Act.

• Requiring a permittee/lessee to apply to renew a permit or lease.

• What criteria BLM will consider before approving increases in permitted use.

• Considering whether to amend the provision stating when BLM will implement action that changes grazing management after determining that the allotments used by a permittee or lessee are not meeting or significantly progressing toward meeting land health standards.

D. We are considering adding the following new provisions to the regulations.

• Establishing and administering a new concept called “Reserve Common Allotments” (RCA). RCAs would be managed as reserve forage areas for use by permittees whose allotments are undergoing restoration treatments and require rest from grazing. RCA forage would be allocated on a temporary non-renewable basis to permittees participating in restoration on their allotments.

• Adding a fee schedule for preference transfers, crossing permits, applications for nonuse, and replacement/supplemental billing under existing service charge authority. We do not intend to address grazing fees in this rulemaking.

E. We also plan to make minor revisions to correct typographical errors and to make technical changes to improve the clarity of the rule. One change we will make is to remove references to “conservation use” permits to reflect the decision in Public Lands Council v. Babbitt, 929 F.Supp. 1436 (D. Wyo. 1996), rev'd in part and aff'd in part, 167 F.3d 1287 (10th Cir. 1999), aff'd, 529 U.S. 728 (2000).

Additional information about BLM's Rangeland, Soils, Water, and Air Program is available at http://web.blm.gov/internal/wo-200/wo-220/index.html.

Dated: January 17, 2003.
Rebecca W. Watson,
Assistant Secretary of the Interior.

[FR Doc. 03-4934 Filed 2-28-03; 8:45 am]

BILLING CODE 4310-84-P